DEPARTMENT OF HOUSING AND URBAN DEVELOPMENT

[Docket No. FR-7040-N-03; OMB Control No. 2577-0192]

60-Day Notice of Proposed Information Collection: Requirements for Designating Housing Projects

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 26, 2021.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW, Room 3178, Washington, DC 20410; telephone 202-402-4109, (this is not a toll-free number). Persons with hearing or speech impairments may access this number via TTY by calling the Federal Relay Service at (800) 877-8339. Copies of available documents submitted to OMB may be obtained from Ms. Rogers.

SUPPLEMENTARY INFORMATION: This notice informs the public that HUD is seeking approval from OMB for the information collection described in Section A.

A. Overview of Information Collection

Title of Information Collection: Requirements for Designating Housing Projects.

OMB Approval Number: 2577-0192.

Type of Request: Revision of a currently approved collection.

Form Number: None.

Description of the need for the information and proposed use: The information collection burden associated with designated housing is required by statute. Section 10 of the Housing Opportunity and Extension Act of 1996 modified Section 7 of the U.S. Housing Act of 1937 to require Public Housing Agencies (PHAs) to submit a plan for HUD approval before a project(s) can be designated as either elderly only, disabled only, or elderly and disabled. In this plan, PHAs must document why the designation is needed and provide the following information:

1. Description of the designated housing plan;

2. Justification for the designation;

3. Availability of alternative housing resources for the non-designated population(s);

4. Impact on the availability of accessible housing;

5. A statement that existing tenants in good standing will not be evicted;

6. A statement of the resources that will be made available if the PHA offers voluntary relocation benefits; and

7. Information describing how the DHP is consistent with any outstanding court orders, lawsuits, investigations, Voluntary Compliance Agreements (VCAs), Conciliation Agreements, or Letters of Findings or Determinations, etc., including for example, actions under Title VI of the Civil Rights Act, Section 504 of the Rehabilitation Act, the Age Discrimination Act, the Fair Housing Act, or the Americans with Disabilities Act.

Respondents (i.e. affected public): State, or Local Government.

Estimated Number of Respondents: 18.

Estimated Number of Responses: 1.

Frequency of Response: On Occasion.

Average Hours per Response: 15 hours.

Total Estimated Burdens: 270 hours.

The previous estimation of 585 annual burden hours has been reduced to 270. This change is based on the average number of Plans submitted between Calendar Years 2017, 2018 and 2019. HUD expects that the number of respondents will continue to decline because of the trend in Public Housing Agencies (PHAs) repositioning their developments and moving out of the public housing program.

The national average PHA staff salary = $51,000 ¹ per year or $24.00 per hour. The calculation for costs is as follows: 18 PHAs × 15 hours = 270 hours × $24 ² = $6,480.

¹ ziprecruiter.com, https://www.ziprecruiter.com/Salaries/Public-Housing-Authority-Salary

² Computed Hourly Rates of Pay Using the 2,087-Hour Divisor, https://www.opm.gov/policy-data-oversight/pay-leave/pay-administration/fact-sheets/computing-hourly-rates-of-pay-using-the-2087-hour-divisor/

Information collection | Number of respondents | Average number of reponses per respondent | Total annual responses | Burden hours/minutes per response | Tota hours | Hourly cost | Total annual cost
2577-0192 | 18 | 1 | 18 | 15 | 270 | $24.00 | $6,480

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: January 8, 2021.
Merrie Nichols-Dixon,
Director, Office of Policy, Programs and Legislative Initiatives.

[FR Doc. 2021-01489 Filed 1-22-21; 8:45 am]

BILLING CODE 4210-67-P